SUSQUEHANNA RIVER BASIN COMMISSION

Commission Meeting

AGENCY: Susquehanna River Basin Commission.

ACTION: Notice.

SUMMARY: The Susquehanna River Basin Commission will hold its regular business meeting on March 15, 2019, in Annapolis, Maryland. Details concerning the matters to be addressed at the business meeting are contained in the Supplementary Information section of this notice. Also the Commission published a document in the Federal Register on February 6, 2019, concerning its public hearing on February 7, 2019, in Harrisburg, Pennsylvania.

DATES: The meeting will be held on Friday, March 15, 2019, at 9 a.m.

ADDRESSES: The meeting will be held at the Crowne Plaza Annapolis, 173 Jennifer Road, Annapolis, Maryland 21401.

FOR FURTHER INFORMATION CONTACT: Ava Stoops, Administrative Specialist, 717-238-0423, ext. 1302.

SUPPLEMENTARY INFORMATION: The business meeting will include actions or presentations on the following items: (1) Informational presentation of interest to the lower Susquehanna River region; (2) FY2020 budget reconciliation; (2) consideration of an amendment to the irrevocable retiree health trust; (3) resolution adopting recommendations of the 2018 Pennsylvania performance audit; (4) ratification/approval of contracts/grants; (5) a report on delegated settlements; (6) resolution to balance renewal cycle workload; and (7) Regulatory Program projects.

Regulatory Program projects listed for Commission action were those that were the subject of public hearings conducted by the Commission on February 7, 2019, and identified in the notices for such hearings, which was published in 84 FR 2296, February 6, 2019.

The public is invited to attend the Commission's business meeting. Comments on the Regulatory Program projects were subject to deadline of February 18, 2019. Written comments pertaining to other items on the agenda at the business meeting may be mailed to the Susquehanna River Basin Commission, 4423 North Front Street, Harrisburg, Pennsylvania 17110-1788, or submitted electronically through www.srbc.net/about/meetings-events/business-meeting.html. Such comments are due to the Commission on or before February 18, 2018. Comments will not be accepted at the business meeting noticed herein.

Authority: Pub. L. 91-575, 84 Stat. 1509 et seq., 18 CFR parts 806, 807, and 808.

Dated: February 8, 2019.
Jason E. Oyler,
Acting Secretary to the Commission.

[FR Doc. 2019-02221 Filed 2-12-19; 8:45 am]

BILLING CODE 7040-01-P